DEPARTMENT OF THE INTERIOR

Fish and Wildlife Service

[FWS-R3-ES-2018-N011; FVHC98210305860-XXX-FF03E14000]

Draft Restoration Plan and Environmental Assessment for the Cardinal Valley Natural Habitat Restoration Project, Oronogo-Duenweg Mining Belt Superfund Site, Missouri

AGENCY: Fish and Wildlife Service, Interior.

ACTION: Notice of availability; request for comments.

SUMMARY: In accordance with the Comprehensive Environmental Response, Compensation and Liability Act and the National Environmental Policy Act, the natural resource Trustees for the Tri-State Mining District (TSMD) site announce the availability for public comment of a Draft Restoration Plan and Environmental Assessment (Draft RP/EA) for TSMD natural resource damage restoration. The Draft RP/EA presents a restoration project the Trustees are proposing to implement to restore natural resources and services injured by hazardous substances released in and around the TSMD site.

DATES: Written comments must be received by June 6, 2018.

ADDRESSES: Submitting Comments: Send written comments to one of the following addresses:

• U.S. mail: Scott Hamilton; U.S. Fish and Wildlife Service, Missouri Ecological Services Field Office, 101 Park DeVille Dr., Suite A, Columbia, MO 65203; or

• Email: scott_hamilton@fws.gov; put “TSMD RP/EA” in the email subject line.

Obtaining the Draft Restoration Plan/Environmental Assessment: The Draft RP/EA is available for download from the U.S. Fish and Wildlife Service Midwest Region Natural Resource Damage Assessment website, at: https://www.fws.gov/midwest/es/ec/nrda/motristate/index.html.

FOR FURTHER INFORMATION CONTACT: Scott Hamilton, U.S. Fish and Wildlife Service, at 573-234-2132, extension 122 (phone) or scott_hamilton@fws.gov (email).

SUPPLEMENTARY INFORMATION:

Introduction

The U.S. Department of the Interior (U.S. Fish and Wildlife Service) and the State of Missouri (Missouri Department of Natural Resources) are natural resource trustees (Trustees) for natural resources and services injured by hazardous substances at the Tri-State Mining District (TSMD) site, located in southwest Missouri. The Trustees have prepared a Draft Restoration Plan and Environmental Assessment (Draft RP/EA) to restore injured natural resources and services at the TSMD site pursuant to both the Comprehensive Environmental Response, Compensation and Liability Act natural resource damages assessment and restoration (NRDAR) regulations at 43 CFR part 11 and the National Environmental Policy Act of 1969, as amended (NEPA; 42 U.S.C. 4321 et seq.), and its implementing regulations at 40 CFR parts 1500-1508. NEPA requires Federal agencies to conduct environmental reviews of proposed actions to consider the potential impacts on the environment.

Draft Restoration Plan Alternatives

Consistent with the U.S. Department of the Interior NRDAR regulations and NEPA, the Trustees evaluated a suite of five alternatives for conducting the type and scale of restoration sufficient to compensate the public for natural resource injuries and service losses. Based on selection factors, including location, technical feasibility, cost effectiveness, provision of natural resource services similar to those lost due to contamination, and net environmental consequences, the Trustees have identified a preferred alternative. Under this preferred alternative, the Trustees would use a combination of biosolids, manure, and woody material to return soil fertility to areas where remedial work removed mine waste and contaminated soil, leaving behind degraded soils and residual metals. Following application of soil amendments, native seed would be applied to the landscape in an attempt to restore prairie habitat and associated natural resource services. Prescribed fire, mowing, and other weed management techniques would be used to maintain desirable habitat conditions. Conservation easements would be placed on restoration parcels, and areas would be managed for wildlife habitat and limited recreation.

Public Comments

Comments are specifically requested regarding the alternatives, proposed restoration techniques and projects, scope of analysis, and assessment of impacts. Please see the ADDRESSES section for how to submit information.

Before including your address, phone number, email address, or other personal identifying information in your comment, you should be aware that your entire comment—including your personal identifying information—may be made publicly available at any time. While you can ask us in your comment to withhold your personal identifying information from public review, we cannot guarantee that we will be able to do so.

Authority

The authority of this action is the Comprehensive Environmental Response, Compensation and Liability Act (CERCLA) and the implementing NRDAR regulations found at 43 CFR part 11.

Dated: February 16, 2018.
Charles Wooley,
Acting Regional Director, Midwest Region, U.S. Fish and Wildlife Service.

[FR Doc. 2018-09599 Filed 5-4-18; 8:45 am]

BILLING CODE 4333-15-P